ENVIRONMENTAL PROTECTION AGENCY

[ER-FRL-9050-2]

Environmental Impact Statements; Notice of Availability

Responsible Agency: Office of Federal Activities, General Information 202-564-5632 or https://www.epa.gov/nepa.

Weekly receipt of Environmental Impact Statements (EIS)

Filed March 23, 2020, 10 a.m. EST Through March 30, 2020, 10 a.m. EST Pursuant to 40 CFR 1506.9.

Section 309(a) of the Clean Air Act requires that EPA make public its comments on EISs issued by other Federal agencies. EPA's comment letters on EISs are available at: https://cdxnodengn.epa.gov/cdx-enepa-public/action/eis/search.

EIS No. 20200075, Final, Caltrans, CA, North County Corridor New State Route 108 Project and Route Adoption, Review Period Ends: 05/04/2020, Contact: Jennifer Lugo 559-445-6172.

EIS No. 20200076, Draft, BLM, PRO, Draft Programmatic Environmental Impact Statement for Fuels Reduction and Rangeland Restoration in the Great Basin, Comment Period Ends: 06/02/2020, Contact: Ammon Wilhelm 208-373-3824.

EIS No. 20200077, Draft, NNSA, SC, Plutonium Pit Production at the Savannah River Site in South Carolina, Comment Period Ends: 05/18/2020, Contact: Jennifer Nelson 803-208-1426.

EIS No. 20200078, Final, BLM, ID, Tri-State Fuel Breaks Project, Review Period Ends: 05/04/2020, Contact: Lance Okeson 208-384-3300.

Dated: March 30, 2020.
Cindy S. Barger,
Director, NEPA Compliance Division, Office of Federal Activities.

[FR Doc. 2020-06995 Filed 4-2-20; 8:45 am]

BILLING CODE 6560-50-P